DEPARTMENT OF DEFENSE

Office of the Secretary

Notice of Availability of the Mobile Launch Platform Environmental Assessment and Draft Finding of No Significant Impact

AGENCY: Missile Defense Agency, Department of Defense.

ACTION: Notice of availability and request for comments.

SUMMARY: In accordance with National Environmental Policy Act (NEPA) regulations, the Missile Defense Agency (MDA) is initiating a public review and comment period for an Environmental Assessment (EA) and Draft Finding of No Significant Impact (FONSI). This notice announces the availability of the Mobile Launch Platform (MLP) EA that analyzes the potential environmental impacts of activities associated with using the existing MLP as a platform for testing sensors and launching target and interceptor missiles. THe MLP could operate from any of the following locations: Western Range, Pacific Missile Range Facility (PMRF)/Kauai Test Facility (KTF), U.S. Army Kwajalein Atoll (USAKA)/Ronald Reagan Ballistic Missile Defense Test Site (RTS), and the Board Ocean Area (BOA) of the Pacific Ocean. The EA considers the impacts resulting from the proposed use of the MLP to support specific tests. The EA also considers cumulative impacts associated with the proposed use of the MLP to support test events.

Based on the analysis documented in the EA, the MDA has concluded that no significant impacts are expected to result from the proposed action. The Draft FONSI was prepared to document this preliminary conclusion.

DATES: The public review and comment period for this EA and Draft FONSI begins with the publication of this notice in the Federal Register. All comments on this EA and Draft FONSI must be received by the MDA no later than June 7, 2004.

Copies of the EA and Draft FONSI will be made available for review at the following public libraries:

• Hawaii State Library, Hawaii Documents Center, 478 South King Street, HI 96813.

• Lihu'e Regional Library, 4344 Hardy Street, Lihu'e, HI 96766-1251.

• California State Library, Library and Courts Building, 914 Capitol Mall, Sacramento, CA 05814.

• Lompoc Public Library, 501 E. North Avenue, Lompoc, CA 93436.

A downloadable electronic version of the EA and Draft FONSI are available on the MDA Internet site: http://www.acq.osd.mil/bmdo/bmdolink/html/.

ADDRESSES: Written and oral comments regarding the EA and Draft FONSI should be submitted to MLP EA, c/o ICF Consulting, 9300 Lee Highway, Fairfax, VA 22031; via toll-free fax 1-877-851-5451; or via e-mail mlp.ea@icfconsulting.com.

SUPPLEMENTARY INFORMATION: The MDA has a requirement to develop, test, deploy, and plan for decommissioning a Ballistic Missile Defense System (BMDS) to provide a defensive capability for the United States, its deployed forces, friends, and allies from ballistic missile threats. The proposed action would provide the MDA with the capability to conduct launches using multiple realistic target and interceptor trajectories in existing test ranges and the BOA. In addition, the proposed action would allow MDA the capability to use sensors at test support positions in remote areas of the ocean by locating these sensors onboard the MLP.

The sensors that would be used from the MLP include radars, telemetry, and optical systems. Examples of radars that could be used include: TPS-X, Mk-74, and Coherent Signal Processor radars that already exist, and the BMDS radar, being developed by the MDA. Telemetry systems could include the Transportable Telemetry System and mobile range safety systems. Mobile optical systems such as the Stabilized High-Accuracy Optical Tracking System could also be placed on the MLP. Additional sensor systems may be temporarily based on the MLP as required. The targets that would be launched from the MLP include: pre-fueled and non-pre-fueled liquid propellant missiles and solid propellant missiles. The interceptor missiles that would be launched from the MLP use solid propellant. The MLP would be designed to operate from any of the following locations: Western Range, PMRF/KTF, USAKA/RTS, and the BOA. Two alternatives to the proposed action were considered in the EA. The first alternative would include using the MLP for the launch of missiles but not for testing sensors. The second alternative would include using the MLP to test sensors and launch pre-fueled liquid propellant missiles and solid propellant missiles but not non-pre-fueled liquid propellant missiles.

Potential impacts of the proposed action and alternatives were analyzed in the EA. Potential environmental impacts of the proposed action and alternatives include impacts to air quality, airspace, biological resources, geology and soils, health and safety, hazardous materials and hazardous waste, noise, transportation and infrastructure, and water resources. Potential impacts of the No Action Alternative were analyzed in the EA. Under the No Action Alternative, activities to be conducted from the MLP that have already been analyzed would continue and additional activities using the MLP would be considered on a case-by-case basis. The No Action Alternative would result in no impact to the environmental baseline as described for the affected environment in the EA; however, it could severely limit the MDA's ability to cost-effectively conduct and monitor realistic testing of the BMDS.

Potential cumulative impacts resulting from the proposed use of the MLP to support specific test events are also addressed in the EA.

Dated: April 30, 2004.
L.M. Bynum,
Alternate OSD Federal Register Liaison Officer, Department of Defense.

[FR Doc. 04-10315 Filed 5-5-04; 8:45 am]

BILLING CODE 5001-06-M